DEPARTMENT OF THE INTERIOR

National Park Service

[N6576; NPS-WASO-NAGPRA-NPS0041252; PPWOCRADN0-PCU00RP14.R50000]

Notice of Inventory Completion Amendment: Trinity University, San Antonio, TX; University of Texas at Austin, Texas Archeological Research Laboratory, Austin, TX; and University of Texas at Austin, Vertebrate Paleontology Laboratory, Austin, TX

AGENCY: National Park Service, Interior.

ACTION: Notice; amendment.

SUMMARY: In accordance with the Native American Graves Protection and Repatriation Act (NAGPRA), Trinity University (Trinity), University of Texas at Austin, Texas Archeological Research Laboratory (TARL), and and University of Texas at Austin, Vertebrate Paleontology Laboratory (VPL) have amended a notice of inventory completion published in the Federal Register on August 5, 2025. This notice amends the Indian Tribes or Native Hawaiian organizations with cultural affiliation.

DATES: Repatriation of the human remains and associated funerary objects may occur on or after December 18, 2025.

ADDRESSES: Send written requests for repatriation of the human remains and associated funerary objects to Maggie Moore, Trinity University, Department of Sociology and Anthropology, 1 Trinity Place, San Antonio, TX 78212-7200, email mmoore3@trinity.edu; Jessica Ulmer, The University of Texas at Austin Texas Archaeological Research Laboratory, 1 University Station, R7500, Austin, TX 78712, email jessica.ulmer@austin.utexas.edu; or Chris Sagebiel, The University of Texas at Austin Vertebrate Paleontology Laboratory, J. J. Pickle Research Campus, The University of Texas, 3333 Read Granberry Trl. (VPL, bldg. 6), Austin, TX 78758, email sagebiel@austin.utexas.edu.

SUPPLEMENTARY INFORMATION: This notice is published as part of the National Park Service's administrative responsibilities under NAGPRA. The determinations in this notice are the sole responsibility of Trinity, TARL, and VPL, and additional information on the determinations in this notice, including the results of consultation, can be found in its inventory or related records. The National Park Service is not responsible for the determinations in this notice.

Amendment

This notice amends the determination of cultural affiliation published in a notice of inventory completion in the Federal Register (90 FR 37554, August 5, 2025). Repatriation of the human remains and associated funerary objects in the original notice of inventory completion has not occurred.

Determinations

Trinity, TARL, and VPL have determined that:

• There is a connection between the human remains and associated funerary objects described in the original notice and the Absentee-Shawnee Tribe of Indians of Oklahoma; Comanche Nation, Oklahoma; Kickapoo Traditional Tribe of Texas; Mescalero Apache Tribe of the Mescalero Reservation, New Mexico; Shawnee Tribe; The Seminole Nation of Oklahoma; Thlopthlocco Tribal Town; Wichita and Affiliated Tribes (Wichita, Keechi, Waco, & Tawakonie), Oklahoma; and the Ysleta del Sur Pueblo.

Requests for Repatriation

Written requests for repatriation of the human remains and associated funerary objects in the original notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in the original notice to a requestor may occur on or after December 18, 2025. If competing requests for repatriation are received, Trinity, TARL, and VPL must determine the most appropriate requestor prior to repatriation. Requests for joint repatriation of the human remains and associated funerary objects are considered a single request and not competing requests. Trinity, TARL, and VPL are responsible for sending a copy of this notice to the Indian Tribes and Native Hawaiian organizations identified in this notice and any other consulting parties.

Authority: Native American Graves Protection and Repatriation Act, 25 U.S.C. 3003, and the implementing regulations, 43 CFR 10.10.

Dated: September 25, 2025.
Melanie O'Brien,
Manager, National NAGPRA Program.

[FR Doc. 2025-20111 Filed 11-17-25; 8:45 am]

BILLING CODE 4312-52-P